AGENCY FOR INTERNATIONAL DEVELOPMENT

Privacy Act of 1974; System of Records

AGENCY: United States Agency for International Development.

ACTION: New system of records notice.

SUMMARY: Pursuant to the Privacy Act, 5 U.S.C. 552a, the United States Agency for International Development (USAID) is issuing new public notice for a system of records entitled “USAID-1 Foreign Service Personnel Records”. This action is necessary to meet the requirements of the Privacy Act, 5 U.S.C. 522a(e)(4), to publish in the Federal Register notice of the existence and character of record systems maintained by the agency.

DATES: In accordance with 5 U.S.C. 522a(e)(4) and (11), the public is given a 30-day period in which to comment. Therefore, any comments must be received on or before April 2, 2015. Unless comments are received that would require a revision, this altered system of records will become effective on April 2, 2015.

ADDRESSES: You may submit comments:

Electronic

• Federal eRulemaking Portal: http://www.regulations.gov. Follow the instructions on the Web site for submitting comments.

• Email: privacy@usaid.gov.

Paper

• Fax: (703) 666-5670.

• Mail: Chief Privacy Officer, United States Agency for International Development, 1300 Pennsylvania Avenue NW., Washington, DC 20523.

FOR FURTHER INFORMATION CONTACT: The USAID Privacy Office at United States Agency for International Development, Bureau for Management, Office of the Chief Information Officer, Information Assurance Division, 1300 Pennsylvania Avenue NW., Washington, DC 20523; or via email at privacy@usaid.gov.

SUPPLEMENTARY INFORMATION: USAID has recently conducted a review of systems of records notices and has determined that it deleted USAID-1 Foreign Service Personnel Records in error at 72 FR 50096 (August 30, 2007). USAID-1 was last published at 42 FR 47371 (Sept. 20, 1977). USAID will create a new USAID-1 with the same title, Foreign Service Personnel Records. Also, USAID has determined that USAID-6 Recruiting, Examining and Placement Records and USAID-7 Foreign Service Personnel Evaluation Records were deleted in error on August 30, 2007 (72 FR 50096). In addition, USAID has determined that the portions of USAID-11 Employee Conduct and Discipline Records, USAID-12 Executive Assignment Records, USAID-13 Orientation and Training Records, and USAID-24 Emergency Case File that cover Foreign Service personnel records were deleted in error on August 30, 2007 (72 FR 50096). In order to reflect the current status of the USAID Foreign Service personnel system of records, the new USAID-1 Foreign Service Personnel Records will incorporate the Foreign Service personnel records from USAID-1, USAID-6, USAID-7, USAID-11, USAID-12, USAID-13, and USAID-24.

Dated: February 5, 2015.
William Morgan,
Chief Privacy Officer, United States Agency for International Development.

USAID-1

SYSTEM NAME:

Foreign Service Personnel Records.

SYSTEM LOCATION:

United States Agency for International Development (USAID), 1300 Pennsylvania Avenue NW., Washington, DC 20523 and other USAID offices in the United States and throughout the world; U.S. Department of Agriculture (USDA), National Finance Center (NFC), New Orleans, LA 70129; U.S. Department of the Treasury, Internal Revenue Service, IRS-Enterprise Computing Center-Detroit, Detroit, MI 48232; Washington National Records Center, 4205 Suitland Road, Suitland, MD 20746-8001; and National Personnel Records Center, National Archives and Records Administration (NARA), 111 Winnebago Street, St. Louis, MO 63118.

CATEGORIES OF INDIVIDUALS IN THE SYSTEM:

The system encompasses all individuals who are current or former employees hired under the Foreign Service Act authority by 1) USAID or 2) another federal agency and on detail to USAID.

CATEGORIES OF RECORDS IN THE SYSTEM:

This system consists of records created or compiled for Foreign Service Act personnel actions, including official personnel files; work experience, education level achieved, and specialized education or training obtained both inside and outside of Foreign Service; Federal service, past and present positions held, grades, salaries, duty station locations; notices of all personnel actions, such as appointments, transfers, reassignments, details, promotions, demotions, reductions-in-force, resignations, separations, suspensions, and removals; life and health insurance benefits; position classification; recruiting, examining, and placement; disability, race/ethnicity, and national origin classification data; evaluation and performance management; employee conduct and discipline; executive assignments; orientation and training; awards and incentives; workers compensation; designations for lump-sum death benefits; classified information nondisclosure agreements; Thrift Savings Plan; and ethics pledges and all pledge waiver certifications. Medical records, forms, and reports are included when they are related to the application for and employment as a Foreign Service position, including health records related to workers' compensation claims, employee health promotion and wellness activities, and drug testing. All categories of records may include identifying information, such as name, Social Security Number, mailing address, home telephone number, cell phone number, resume, clearance level, pay grade, salary, direct-deposit financial information, position title, and position number.

AUTHORITY FOR MAINTENANCE OF SYSTEM OF RECORDS:

The system was established and is maintained pursuant to 5 U.S.C. 301, Departmental Regulations; 5 U.S.C. 302, Delegation of Authority; 22 U.S.C. Ch. 32, Foreign Assistance, Subchapter I, International Development; 22 U.S.C. Ch. 52, Foreign Service.

PURPOSE(S):

The records are collected, used, maintained, and disseminated for the purpose of documenting all processes associated with individual Foreign Service employment histories and career progression, including screening qualifications of employees; determining status, eligibility, and employee's rights and benefits; computing length of service; other Foreign Service personnel services; and making personnel management determinations about Foreign Service personnel throughout their Foreign Service careers.

ROUTINE USES OF RECORDS MAINTAINED IN THE SYTEM, INCLUDING CATEGORIES OF USERS AND PURPOSEs OF SUCH USE:

In addition to those disclosures generally permitted under 5 U.S.C. 552a(b), all or a portion of the records contained in this system of records may be disclosed outside USAID as a routine use pursuant to 5 U.S.C. 552a(b)(3) as follows:

(1) To a court, magistrate, or other administrative body in the course of presenting evidence, including disclosures to counsel or witnesses in the course of civil discovery, litigation, or settlement negotiations or in connection with criminal proceedings, when USAID is a party to the proceeding or has a significant interest in the proceeding, to the extent that the information is determined to be relevant and necessary.

(2) To the Department of Justice or other appropriate Federal Government agency when the records are arguably relevant to a proceeding in a court or other tribunal in which USAID or a USAID official in his or her official capacity is a party or has an interest, or when the litigation is likely to affect USAID.

(3) To a Federal Government agency or entity that furnished the record or information for the purpose of permitting that agency or entity to make a decision as to access to or correction of the record or information.

(4) In the event of an indication of a violation or potential violation of law, whether civil, criminal or regulatory in nature, and whether arising by statute or particular program pursuant thereto, to the appropriate agency, whether federal, state, local or foreign, charged with the responsibility of investigating or prosecuting such violation or charged with enforcing or implementing the statute, or rule, regulation, or order issued pursuant thereto.

(5) To the Department of State and its posts abroad for the purpose of transmission of information between organizational units of the Agency, or for purposes related to the responsibilities of the Department of State in conducting United States foreign policy or protecting United States citizens, such as the assignment of employees to positions abroad, the reporting of accidents abroad, evacuation of employees and dependents, and other purposes for which officers and employees of the Department of State have a need for the records in the performance of their duties.

(6) To a foreign government or international agency in response to its request for information to facilitate the conduct of U.S. relations with that government or agency through the issuance of such documents as visas, country clearances, identification cards, drivers' licenses, diplomatic lists, licenses to import or export personal effects, and other official documents and permits routinely required in connection with the official service or travel abroad of the individual and his or her dependents.

(7) To Federal agencies with which USAID has entered into an agreement to provide services to assist USAID in carrying out its functions under the Foreign Assistance Act of 1961, as amended. Such disclosures would be for the purpose of transmission of information between organizational units of USAID; of providing to the original employing agency information concerning the services of its employee while under the supervision of USAID, including performance evaluations, reports of conduct, awards and commendations, and information normally obtained in the course of personnel administration and employee supervision; or of providing other information directly related to the purposes of the inter-agency agreement as set forth therein, and necessary and relevant to its implementation.

(8) To appropriate officials and employees of a Federal Government agency or entity when the information is relevant to a decision concerning the hiring, appointment, or retention of an employee; the assignment, detail or deployment of an employee; the issuance, renewal, suspension, or revocation of a security clearance; the execution of a security or suitability investigation; the letting of a contract; or the issuance of a grant or benefit.

(9) To a committee or subcommittee of Congress and the Government Accountability Office for the purposes of responding to inquiries.

(10) To the National Archives and Records Administration, Information Security Oversight Office, Interagency Security Classification Appeals Panel, for the purpose of adjudicating an appeal from a USAID denial of a request for mandatory declassification review of records, made under the applicable executive order(s) governing classification.

(11) To the National Archives and Records Administration, Office of Government Information Services (OGIS), to the extent necessary to fulfill its responsibilities in 5 U.S.C. 552(h), to review administrative agency policies, procedures, and compliance with the Freedom of Information Act, and to facilitate OGIS' offering of mediation services to resolve disputes between persons making FOIA requests and administrative agencies.

(12) To the National Archives and Records Administration for the purposes of records management inspections conducted under the authority of 44 U.S.C. 2904 and 2906.

(13) To a former employee of USAID for purposes of responding to an official inquiry by a Federal, State, or local government entity or professional licensing authority, in accordance with applicable agency regulations; or facilitating communications with a former employee that may be necessary for personnel-related or other official purposes where USAID requires information and/or consultation assistance from the former employee regarding a matter within that person's former area of responsibility.

(14) To appropriate agencies, entities, and persons when (1) USAID suspects or has confirmed that the security or confidentiality of information in the system of records has been compromised; (2) USAID has determined that as a result of the suspected or confirmed compromise there is a risk of harm to economic or property interests, identity theft or fraud, or harm to the security or integrity of this system or other systems or programs (whether maintained by the USAID or another agency, entity, or person) that rely upon the compromised information; and (3) the disclosure made to such agencies, entities, and persons is reasonably necessary to assist in connection with USAID's efforts to respond to the suspected or confirmed compromise and prevent, minimize, or remedy such harm.

(15) To attorneys, union representatives, or other persons designated by USAID employees in writing to represent them in complaints, grievance, appeal, or litigation cases.

(16) To requestors in determining a former spouse's entitlement to benefits and other inquiries related to retirement benefits.

(17) To labor organization officials when such information is relevant to personnel policies affecting employment conditions and necessary for exclusive representation by the labor organization.

(18) To officials of foreign governments and other U.S. government agencies for clearance before a Federal employee is assigned to that country as well as for the procurement of necessary services for American personnel assigned overseas, such as permits of free entry and identity cards.

(19) To the Department of Labor, Department of Veterans Affairs, Social Security Administration, Department of Defense, or any other Federal agencies that have special civilian employee retirement and disability programs; or to a national, state, county, municipal, or other publicly recognized income administration agency (e.g. State unemployment compensation agencies), when necessary to adjudicate a claim under the retirement, insurance, unemployment or health benefits programs of USAID or an agency cited above, or to an agency to conduct an analytical study or audit of benefits being paid under such programs.

(20) To the Office of Federal Employees Group Life Insurance, information necessary to verify election, declination, or waiver of regular and/or optional life insurance coverage, or eligibility for payment of a claim for life insurance.

(21) To health insurance carriers contracting with the Federal government to provide a health benefits plan under the Federal Employees Health Benefits Program, information necessary to identify enrollment in a plan, to verify eligibility for payment of a claim for health benefits, or to carry out the coordination or audit of benefit provisions of such contracts.

(22) To any person who is responsible for the care of an individual to whom a record pertains who is mentally incompetent or under other legal disability. Information in the individual's record may be disclosed to said person to the extent necessary to assure payment of benefits to which the individual is entitled.

(23) To public and private organizations, including news media, which grant or publicize employee recognition to consider and select employees for incentive awards and other honors and to publicize awards and honors granted.

(24) To the Department of Justice in connection with proceedings before a court, adjudicative body, or other administrative body when any of the following is a party to litigation or has an interest in such litigation and USAID determines that the use of such records is arguably relevant and necessary to the litigation of (1) the USAID or any component thereof, (2) any employee of the USAID in his or her official capacity, (3) any employee of the USAID in his or her individual capacity where the Department of Justice or the USAID has agreed to represent the employee, or (4) the United States, when the USAID determines that litigation is likely to affect the USAID or any of its components.

(25) To implement court decisions and/or terms of settlement agreements reached by the parties.

(26) To prepare reports to the courts in compliance with monitoring requirements.

(27) To courts or federal agencies including, but not limited to, the Equal Employment Opportunity Commission, the Foreign Service Grievance Board, and the Merit Systems Protection Board, in response to an order directing the production of personnel records.

(28) To other Government agencies and private organizations, institutions or individuals to verify employment, to process security clearances and to request record or credit checks.

(29) To officials of other Federal agencies for purposes of performance of official duties in support of the functions for which the records were collected and maintained.

(30) To disclose information to Equal Employment Opportunity (EEO) counselors and EEO investigators in connection with EEO complaints and to the Equal Employment Opportunity Commission when requested in connection with investigations of alleged or possible discrimination practices in the Federal sector, examination of Federal affirmative employment programs, compliance by Federal agencies with the Uniform Guidelines on Employee Selection Procedures, or other functions vested in the Commission.

(31) To the Department of Labor's Office of Workers' Compensation programs relating to benefits under the Federal Employees Compensation Act.

(32) To disclose information to the news media and the public when a matter involving the USAID has become public knowledge; the Assistant Administrator Under Secretary for Management determines that in response to the matter in the public domain, disclosure is necessary to provide an accurate factual record on the matter; and the Assistant Administrator for Management determines that there is a legitimate public interest in the information disclosed.

POLICIES AND PRACTICES FOR STORING, RETRIEVING, ACCESSING, RETAINING, AND DISPOSING OF RECORDS IN THE SYSTEM:

STORAGE:

Paper and microfiche records are maintained by USAID and are safeguarded in secured cabinets within secured rooms. The electronic records are stored in the HR Connect system, Electronic Official Personnel File (eOPF) system, and National Finance Center Payroll/Personnel System, which are safeguarded in accordance with applicable rules and policies, including all applicable USAID automated systems security and access policies. Strict controls have been imposed to minimize the risk of compromising the information that is being stored. Access to the records is limited to those individuals who have a need to know the information for the performance of their official duties and who have appropriate clearances or permissions.

RETRIEVABILITY:

Records are retrieved by the name of the Foreign Service personnel and numeric identifier.

SAFEGUARDS:

Information in this system is safeguarded in accordance with applicable laws, rules and policies, including the agency's automated directive system. In general, records and technical equipment are maintained in buildings with restricted access. The required use of password protection identification features and other system protection methods also restrict access. Access is limited to those officers and authorized USAID employees who have an official need to access the records in the performance of their official duties.

RETENTION AND DISPOSAL:

Records are retained and disposed of in accordance with the National Archives Records Administration's General Records Disposition Schedules and the agency's approved disposition schedules.

SYSTEM MANAGER(S) AND ADDRESS:

Director, Foreign Service Center, Human Capital and Talent Management, United States Agency for International Development, Office of Human Resources, 1300 Pennsylvania Avenue NW., Washington, DC 20523.

NOTIFICATION PROCEDURE:

Same as Record Access Procedures.

RECORDS ACCESS PROCEDURES:

Under the Privacy Act, individuals may request access to records about themselves. If an agency or a person, who is not the individual who is the subject of the records, requests access to records about an individual, the written consent of the individual who is the subject of the records is required.

Requesters may submit requests for records under the Privacy Act: (1) By mail to the USAID FOIA Office, Bureau for Management, Office of Management Services, Information and Records Division, 1300 Pennsylvania Avenue NW., Room 2.07C-RRB, Washington, DC 20523-2701; (2) via Facsimile to 202-216-3070; (3) via email to foia@usaid.gov; (4) on the USAID Web site at www.usaid.gov/foia-requests; or (5) in person during regular business hours at USAID, 1300 Pennsylvania Avenue NW., Washington, DC 20523-2701, or at USAID overseas missions.

Requesters using 1 through 4 may provide a written statement or may complete and submit USAID Form 507-1, Freedom of Information/Privacy Act Record Request Form, which can be obtained: (a) On the USAID Web site at www.usaid.gov/foia-requests; (b) by email request to foia@usaid.gov; or (c) by writing to the USAID FOIA Office, Bureau for Management, Office of Management Services, Information and Records Division, 1300 Pennsylvania Avenue NW., Room 2.07C-RRB, Washington, DC 20523-2701, and provide information that is necessary to identify the records, including the following: Requester's full name; present mailing address; home telephone; work telephone; name of subject, if other than requester; requester relationship to subject; description of type of information or specific records; and purpose of requesting information. Requesters should provide the system of record identification name and number, if known; and, to facilitate the retrieval of records contained in those systems of records which are retrieved by Social Security Numbers, the Social Security Number of the individual to whom the record pertains.

In addition, requesters using 1 through 4 must include proof of identity information by providing copies of two (2) source documents that must be notarized by a valid (un-expired) notary public. Acceptable proof-of-identity source documents include: An unexpired United States passport; Social Security Card (both sides); unexpired United States Government employee identity card; unexpired driver's license or identification card issued by a state or United States possession, provided that it contain a photograph; certificate of United States citizenship; certificate of naturalization; card showing permanent residence in the United States; United States alien registration receipt card with photograph; United States military card or draft record; or United States military dependent's identification card.

Requesters using 1 through 4 must also provide a signed and notarized statement that they are the person named in the request; that they understand that any falsification of their statement is punishable under the provision of 18 U.S.C. 1001 by a fine, or by imprisonment of not more than five years or, if the offense involves international or domestic terrorism (as defined in section 2331), imprisonment of not more than eight years, or both; and that requesting or obtaining records under false pretenses is punishable under the provisions of 5 U.S.C. 552a(i)(3) as a misdemeanor and by a fine of not more than $5,000.

Requesters using 5 must provide such personal identification as is reasonable under the circumstances to verify the requester's identity, including the following: An unexpired United States passport; Social Security Card; unexpired United States Government employee identity card; unexpired driver's license or identification card issued by a state or United States possession, provided that it contain a photograph; certificate of United States citizenship; certificate of naturalization; card showing permanent residence in the United States; United States alien registration receipt card with photograph; United States military card or draft record; or United States military dependent's identification card.

CONTESTING RECORDS PROCEDURES:

Individuals seeking to contest or amend records maintained on himself or herself must clearly and concisely state that information is being contested, and the proposed amendment to the information sought. Requests to amend a record must follow the Record Access Procedures above.

RECORDS SOURCE CATEGORIES:

These records contain information provided directly by the individuals who are the subject of these records; and from administrative officers in USAID bureaus and missions, Office of Human Resources employees, and other sources of records maintained in the official personnel files of Foreign Service personnel.

EXEMPTIONS CLAIMED FOR THE SYSTEM:

Pursuant to 5 U.S.C. 552a (k)(1), subject to the provisions of section 552(b)(1), records are exempted from 5 U.S.C. 552a (c)(3), (d), (e)(1), (e)(4)(G), (H) and (I), and (f) to protect material required to be kept Secret. Pursuant to 5 U.S.C. 552a (k)(4), records contained within this system that are maintained solely for statistical purposes are also exempted from 5 U.S.C. 552a (c)(3), (d), (e)(1), (e)(4)(G), (H) and (I), and (f). Pursuant to 5 U.S.C. 552a (k)(5) and (k)(7), certain records contained within this system contain confidential source information and are exempted from 5 U.S.C. 552a (c)(3), (d), (e)(1), (e)(4)(G), (H) and (I), and (f). Pursuant to 5 U.S.C. 552a (k)(6), records that contain testing or examination material the release of which may compromise testing or examination procedures are also exempted from 5 U.S.C. 552a (c)(3), (d), (e)(1), (e)(4)(G), (H) and (I), and (f). See USAID Rules published in 22 CFR 215.13 and 215.14.

[FR Doc. 2015-04305 Filed 3-2-15; 8:45 am]

BILLING CODE 6116-02-P